DEPARTMENT OF DEFENSE

Department of the Navy

Notice of Partially Closed Meeting of the Chief of Naval Operations (CNO) Executive Panel

AGENCY: Department of the Navy, DoD.

ACTION: Notice.

SUMMARY: The CNO Executive Panel will report on the findings and recommendations to the Chief of Naval Operations of the Subcommittee on Radical Economic Change. The matters to be discussed during the meeting have been divided into unclassified topics and classified topics. The unclassified topics will be presented during the open portion of the meeting, and those unclassified topics include: Overview of the Global Economic Recession; Security Impacts of the Global Economic Recession in the U.S., Japan, Europe, India, and Russia.

The classified topics will be presented during the closed portion of the meeting, and the classified topics include: Chinese Economic Stimulus Analysis; Chinese Defense Budget and Long Term Military Ambitions; and Intelligence Community's Assessment of Chinese Economic and Security Decisions in the Global Recession. The topics to be presented during the closed portion are classified CONFIDENTIAL//NOFORN and TOP SECRET//SI//NOFORN respectively, making them fall within a specific category that is exempt from open meeting disclosure pursuant to 5 U.S.C. 552b(c)(1).

DATES: The open session of the meeting will be held on Tuesday, November 17, 2009, from 2:15 p.m. to 3 p.m. The closed Executive Session will be held from 3 p.m. to 3:45 p.m.

ADDRESSES: The meeting will be held in CNA Boardroom, Center for Naval Analysis, 4825 Mark Center Drive, Alexandria, VA 22311-1846. The meeting will be handicap accessible.

FOR FURTHER INFORMATION CONTACT: Commander David Di Tallo, CNO Executive Panel, 4825 Mark Center Drive, Alexandria, VA 22311-1846, (703) 681-4908.

SUPPLEMENTARY INFORMATION: The matters to be presented during the closed sessions of this meeting are specifically authorized by Executive Order to be kept secret in the interest of national defense and are, in fact, properly classified pursuant to such Executive Order. Accordingly, the Secretary of the Navy has determined in writing that the public interest requires that the closed session of this meeting be closed to the public because they will be concerned with matters classified at the CONFIDENTIAL//NOFORN and TOP SECRET//SI//NOFORN levels. Pursuant to section 552b(c)(1) of title 5, United States Code these matters are exempt from public disclosure.

Individuals or interested groups may submit written statements for consideration by the Chief of Naval Operations Executive Panel at any time or in response to the agenda of a scheduled meeting. All requests must be submitted to the Designated Federal Officer at the address detailed below.

If the written statement is in response to the agenda mentioned in this meeting notice then the statement, if it is to be considered by the Panel for this meeting, must be received at least five days prior to the meeting in question.

The Designated Federal Officer will review all timely submissions with the Chief of Naval Operations Executive Panel Chairperson, and ensure they are provided to members of the Chief of Naval Operations Executive Panel before the meeting that is the subject of this notice.

To contact the Designated Federal Officer, write to Executive Director, CNO Executive Panel (N00K), 4825 Mark Center Drive, 2nd Floor, Alexandria, VA 22311-1846.

Dated: October 20, 2009.
A.M. Vallandingham,
Lieutenant Commander, Office of the Judge Advocate General, U.S. Navy, Federal Register Liaison Officer.

[FR Doc. E9-25643 Filed 10-23-09; 8:45 am]

BILLING CODE 3810-FF-P